DEPARTMENT OF JUSTICE

Drug Enforcement Administration

28 CFR Part 0

[Docket No. DEA-310F]

Redelegation of Functions

AGENCY: Drug Enforcement Administration, Department of Justice.

ACTION: Final rule.

SUMMARY: This rule makes one revision to the Drug Enforcement Administration's (DEA) regulations concerning agency management. Additional personnel are authorized to sign and issue administrative subpoenas.

DATES: Effective Date: July 15, 2008.

FOR FURTHER INFORMATION CONTACT: Wendy H. Goggin, Chief Counsel, Drug Enforcement Administration, 8701 Morrissette Drive, Springfield, VA 22152, Telephone (202) 307-1000.

SUPPLEMENTARY INFORMATION: This Final Rule implements one change to Title 28, Code of Federal Regulations (CFR), Part 0 by adding three officials to the list of officials who may sign and issue administrative subpoenas pursuant to the Comprehensive Drug Abuse Prevention and Control Act of 1970, Public Law No. 91-513, 84 Stat. 1236 (1970), as amended (the Act), codified at 21 U.S.C. 801-971. In addition to the Attorney General and the DEA Administrator, the current list of such officials is set forth at 28 CFR, Chapter I, part 0, Appendix to Subpart R, Section 4. Title 21, U.S.C. 875 and 876, provide the authority to issue such subpoenas. By 28 CFR 0.100, the Attorney General has delegated this authority to issue administrative subpoenas in support of his functions and duties under the Act to the DEA Administrator. The DEA Administrator is permitted by 28 CFR 0.104 to redelegate this authority “to any of [her] subordinates[.]”

By this Final Rule, DEA now extends this administrative subpoena authority to its senior officials overseas who often supervise investigations with leads back in the United States, i.e., DEA's Regional Directors, Assistant Regional Directors, and Country Attachés. As Title 28 CFR, Chapter I, Part 0, Appendix to Subpart R, Section 4 is presently written, DEA Resident Agents in Charge and Special Agent Group Supervisors posted outside the United States have such authority while their superiors, i.e., Regional Directors, Assistant Regional Directors, and Country Attachés, do not. The amendment to section 4 is designed, in part, to rectify this anomaly.

Title 28 CFR, Chapter I, Part 0, Appendix to Subpart R, Section 4 currently lists twelve categories of DEA and FBI officials who are empowered to sign and issue administrative subpoenas under 21 U.S.C. 875 and 876. To this list of senior officials DEA now adds its Regional Directors, Assistant Regional Directors, and Country Attachés. This is being done to rectify an oversight. While both DEA Resident Agents in Charge and Special Agent Group Supervisors posted outside the U.S. have authority to sign and issue such administrative subpoenas, unlike the case of Resident Agents in Charge and Special Agent Group Supervisors within the U.S., the superior officials (Regional Directors, Assistant Regional Directors, and Country Attachés) of such Resident Agents in Charge and Group Supervisors serving overseas have not heretofore been listed at Title 28 CFR, Chapter I, Part 0, Appendix to Subpart R, Section 4, as officials to whom the Administrator has redelegated her authority to sign and issue administrative subpoenas.

Regulatory Certifications

Administrative Procedure Act

This rule relates to a matter of agency management or personnel and is a rule of agency organization, procedure, and practice. As such, this rule is exempt from the usual requirements of prior notice and comment and a 30-day delay in effective date. See 5 U.S.C. 553(a)(2), (b)(3)(A), (d)(3).

Regulatory Flexibility Act

The Acting Administrator, in accordance with the Regulatory Flexibility Act, 5 U.S.C. 601-612, has reviewed this rule, and by approving it, certifies that it will not have a significant economic impact on a substantial number of small entities because it pertains to personnel and administrative matters affecting the Drug Enforcement Administration. Further, a Regulatory Flexibility Analysis was not required to be prepared for this final rule because the Drug Enforcement Administration was not required to publish a general notice of proposed rulemaking for this matter.

Executive Order 12866

This rule has been drafted and reviewed in accordance with Executive Order 12866, Regulatory Planning and Review, section 1(b), Principles of Regulation. This rule is limited to agency organization, management and personnel as described by Executive Order 12866 section (3)(d)(3) and, therefore, is not a “regulation” or “rule” as defined by that Executive Order. Accordingly, this rule has not been reviewed by the Office of Management and Budget.

Executive Order 12988

This regulation meets the applicable standards set forth in sections 3(a) and 3(b)(2) of Executive Order 12988, Civil Justice Reform.

Executive Order 13132

This rule will not have substantial direct effects on the States, on the relationship between the national government and the States, or on the distribution of power and responsibilities among the various levels of government. Therefore, in accordance with Executive Order 13132, Federalism, the Drug Enforcement Administration has determined that this rule does not have sufficient federalism implications to warrant the preparation of a federalism summary impact statement.

Unfunded Mandates Reform Act of 1995

This rule will not result in the expenditure by State, local, and tribal governments, in the aggregate, or by the private sector, of $120 million or more (adjusted for inflation) in any one year, and it will not significantly or uniquely affect small governments. Therefore, no actions are necessary under the provisions of the Unfunded Mandates Reform Act of 1995, 2 U.S.C. 1501 et seq.

Congressional Review Act

This rule is not a major rule as defined by section 251 of the Small Business Regulatory Enforcement Fairness Act of 1996, 5 U.S.C. 804 (Congressional Review Act). This rule will not result in an annual effect on the economy of $100 million or more; a major increase in costs or prices; or significant adverse effects on competition, employment, investment, productivity, innovation, or the ability of United States-based companies to compete with foreign-based companies in domestic and export markets.

The Drug Enforcement Administration has determined that this action is a rule relating to agency organization, procedure or practice that does not substantially affect the rights or obligation of non-agency parties and, accordingly, is not a “rule” as that term is used by the Congressional Review Act (Subtitle E of the Small Business Regulatory Enforcement Fairness Act of 1966). Therefore, the reporting requirement of 5 U.S.C. 801 does not apply.

List of Subjects in 28 CFR Part 0

Authority delegations (Government agencies), Government employees, Organization and functions (Government agencies), Privacy, Reporting and recordkeeping requirements, Whistleblowing.

Accordingly, and for the reasons set forth above, 28 CFR Part 0 is amended as follows:

PART 0—ORGANIZATION OF THE DEPARTMENT OF JUSTICE [AMENDED]

1. The authority citation for Part 0 continues to read as follows:

Authority: 5 U.S.C. 301; 28 U.S.C. 509, 510, 515-519.

2. In section 4 of the Appendix to Subpart R, paragraph (a) is revised to read as follows:

Appendix to Subpart R of Part 0—Redelegation of Functions

Sec. 4. Issuance of subpoenas. (a) The Chief Inspector of the DEA; the Deputy Chief Inspectors and Associate Deputy Chief Inspectors of the Office of Inspections and the Office of Professional Responsibility of the DEA; all Special Agents-in-Charge of the DEA and the FBI; DEA Inspectors assigned to the Inspection Division; DEA Associate Special Agents-in-Charge; DEA and FBI Assistant Special Agents-in-Charge; DEA Resident Agents-in-Charge; DEA Diversion Program Managers; FBI Supervisory Senior Resident Agents; DEA Special Agent Group Supervisors; those FBI Special Agent Squad Supervisors who have management responsibility over Organized Crime/Drug Program Investigations; and DEA Regional Directors, Assistant Regional Directors, and Country Attachés, are authorized to sign and issue subpoenas with respect to controlled substances, listed chemicals, tableting machines or encapsulating machines under 21 U.S.C. 875 and 876 in regard to matters within their respective jurisdictions.

* * * * *

Dated: July 1, 2008.
Michele M. Leonhart,
Acting Administrator.

[FR Doc. E8-16012 Filed 7-14-08; 8:45 am]

BILLING CODE 4410-09-P